OFFICE OF PERSONNEL MANAGEMENT

Notice of Submission for Approval under Emergency Clearance: Information Collection 3206-XXXX; Privacy Act Request for Completed Standard Form SF85/SF85P/SF86, INV 100A

AGENCY: U.S. Office of Personnel Management.

ACTION: Emergency Clearance.

SUMMARY: The Federal Investigative Services (FIS), U.S. Office of Personnel Management (OPM) is notifying the general public and other Federal agencies that OPM is seeking Office of Management and Budget (OMB) approval, under emergency clearance procedures, of a new information collection, INV100A, “Privacy Act Request for Completed Standard Form SF85/SF85P/SF86.”

DATES: OPM is requesting clearance of the collection for the maximum period of six months.

SUPPLEMENTARY INFORMATION: The INV100A, “Privacy Act Request For Completed Standard Form SF85/SF85P/SF86” will permit OPM to more efficiently process Privacy Act requests from individuals seeking to access their most recently completed Standard Form (i.e., the SF85, SF85P, or SF86) that was used to initiate a background investigation. OPM is anticipating a sudden, high-volume influx of these Privacy Act requests due to a cyber-incident that involved the breach of the SF 85, SF 85P, and SF 86 forms completed by millions of individuals in connection with background investigations and the subsequent notice that will be made to affected individuals. Emergency clearance is requested because the time to comply with the public comment provisions of the Paperwork Reduction Act would prevent the agency from fully responding to this unanticipated event.

Analysis

Agency: Federal Investigative Services, U.S. Office of Personnel Management

Title: Privacy Act Request for Completed Standard Form SF85/SF85P/SF86, INV 100A.

OMB Number: 3206-XXXX

Affected Public: Individuals who completed an SF85, SF 85P, or SF 86 through the e-QIP web platform or who mailed the completed form to OPM.

Number of Respondents: Unknown based on unprecedented circumstances.

Estimated Time Per Respondent: 15 minutes

Total Burden Hours: Unknown based on unprecedented circumstances.

U.S. Office of Personnel Management.
Beth F. Cobert,
Acting Director.

[FR Doc. 2015-25091 Filed 9-30-15; 8:45 am]

BILLING CODE 6325-47-P